NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 19, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (N1-258-08-1, 1 item, 1 temporary item). Records pertaining to educational agreements of the Risk Management Education office. Included are application scores, funding and financial documents, and activity logs. This schedule authorizes the agency to apply the proposed disposition instructions to any recordkeeping medium.

2. Department of the Army, Agency-wide (N1-AU-04-9, 2 items, 2 temporary items). Master file and outputs associated with an electronic information system used to track basic human resources data on personnel deployed to a theater of operations. Data includes personnel identifiers, assignment data, and contact information of next of kin.

3. Department of Defense, Defense Commissary Agency (N1-506-07-9, 10 items, 10 temporary items). Records in the Office of the General Counsel pertaining to legal matters. Included are correspondence, information releases, legal opinions, pecuniary charges and appeals, claims, and law enforcement reports. This schedule authorizes the agency to apply the proposed disposition instructions to any recordkeeping medium.

4. Department of Homeland Security, Headquarters Offices (N1-563-07-13, 14 items, 1 temporary item). Write-in campaign correspondence. Proposed for permanent retention are recordkeeping copies of Congressional reports, briefing books, correspondence, plans, policy records, scheduling records, speeches and testimonies, subject files, telephone logs, and trip books. This schedule authorizes the agency to apply the proposed disposition instructions to any recordkeeping medium.

5. Department of Justice, Criminal Division (N1-60-07-7, 4 items, 2 temporary items). Records of the Domestic Security Section, including duplicates of case files litigated by U.S. attorneys used for oversight purposes and general administrative files of the Section. Proposed for permanent retention are recordkeeping copies of records related to cases litigated by the Section and selected general files.

6. Department of Transportation, Federal Railroad Administration (N1-399-07-2, 1 item, 1 temporary item). Records consisting of responses to audits, evaluations, and routine investigations. This schedule authorizes the agency to apply the proposed disposition instructions to any recordkeeping medium.

7. Department of Transportation, Federal Railroad Administration (N1-399-07-12, 2 items, 2 temporary items). Records relating to grants and other program support agreements with Federal, state, local, and international government agencies, universities and institutions. This schedule authorizes the agency to apply the proposed disposition instructions to any recordkeeping medium.

8. Department of the Treasury, Internal Revenue Service (N1-58-08-1, 2 items, 2 temporary items). Correspondence with taxpayers and employers relating to the Withholding Compliance Program. This schedule revises the description and/or disposition for these records, which were previously approved for disposal.

9. Department of the Treasury, Internal Revenue Service (N1-58-08-2, 1 item, 1 temporary item). Records relating to Passive Foreign Investment Company for Tainted Removal Election (Form 8621-A) files. Included are review check sheets, activity logs, case history worksheets, document requests and other correspondence.

10. Department of the Treasury, Internal Revenue Service (N1-58-08-3, 5 items, 5 temporary items). Inputs, outputs, master files and documentation associated with an electronic information system used to record and manage all Systemic Advocacy project activities, task forces, reviews and advocacy portfolios.

11. Department of the Treasury, Internal Revenue Service (N1-58-08-4, 4 items, 4 temporary items). Inputs, outputs, electronic data, and system documentation associated with an electronic information system used to validate U.S. residency for applicants claiming benefits or exemptions relating to foreign income.

12. Department of the Treasury, Internal Revenue Service (N1-58-08-5, 1 item, 1 temporary item). Records relating to taxpayer delinquency, consisting of work requests received by secure e-mail and retained for inventory control and quality review purposes.

13. Commodity Futures Trading Commission, Office of the General Counsel (N1-180-08-1, 1 item, 1 temporary item). Attorney work papers used as background information for litigation cases, including drafts, correspondence, and interview notes. This schedule authorizes the agency to apply the proposed disposition instructions to any recordkeeping medium.

14. Office of Compliance, Agency-wide (N1-577-07-1, 24 items, 15 temporary items). Includes Administrative Dispute Resolution case files, forms, mediation surveys, general correspondence, and electronic case-tracking system; labor management relations case files, reviews, and forms; agency Web site; draft biennial and requestor-initiated inspections of Occupational Safety and Health Administration and Americans with Disabilities Act violations within the legislative branch; inspections of Federal Labor Relations Act violations within the legislative branch; litigation files; rulemaking files; and ethics inquiries. Proposed for permanent retention are recordkeeping copies of Executive Director's and Deputy Executive Directors' official files and standard operating procedures; educational materials; official photographs; historical documents (including annual reports); and Board of Directors' official files, final reports and decisions.

Dated: January 14, 2008.
Michael J. Kurtz,
Assistant Archivist for Records Services—Washington, DC.

[FR Doc. E8-855 Filed 1-17-08; 8:45 am]

BILLING CODE 7515-01-P